DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee Act (Pub. L. 92-463, 86 Stat. 770) requires that public notice of these meetings be announced in the Federal Register.

DATES:

Wednesday, December 9, 2015 8:30 a.m.-5:30 p.m.;

Thursday, December 10, 2015 8:30 a.m.-12:00 p.m.

ADDRESSES: American Geophysical Union (AGU), 2000 Florida Avenue NW., Washington, DC 20009-1277.

FOR FURTHER INFORMATION CONTACT: Christine Chalk, Office of Advanced Scientific Computing Research; SC-21/Germantown Building; U.S. Department of Energy, 1000 Independence Avenue SW., Washington, DC 20585-1290; Telephone (301) 903-7486.

SUPPLEMENTARY INFORMATION:

Purpose of the Committee: To provide advice and guidance on a continuing basis to the Office of Scientific Computing Research and to the Department of Energy on scientific priorities within the field of advanced scientific computing research.

Purpose of the Meeting: This meeting is the semi-annual meeting of the Committee.

Tentative Agenda Topics:

• View from Germantown

• Report from the Next Generation Networking for Science Committee of Visitors

• Information on the National Strategic Computing Initiative

• Update on Exascale project activities

• Summary of workshops on technologies “beyond exascale”

• Program response to report from Subcommittee on the Office of Scientific and Technical Information (OSTI)

• Technical presentations

• Public Comment (10-minute rule)

The meeting agenda includes a report from the Committee of Visitors on the Next Generation Networking for Science program; an update on the budget, accomplishments and planned activities of the Advanced Scientific Computing Research program; a program response to the report from the Subcommittee on the Office of Scientific and Technical Information; an update on exascale computing project activities; information on recent workshops exploring potential technologies “beyond exascale”—such as quantum computing and neom orphic computing; a technical presentation from an exascale researcher in Computer Science; and an opportunity for comments from the public. The meeting will conclude at noon on December 10, 2015. Agenda updates and presentations will be posted on the ASCAC Web site prior to the meeting: http://science.energy.gov/ascr/ascac/.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business.

Those wishing to speak should submit your request at least five days before the meeting. Those not able to attend the meeting or who have insufficient time to address the committee are invited to send a written statement to Christine Chalk, U.S. Department of Energy, 1000 Independence Avenue SW., Washington DC 20585, email to Christine.Chalk@science.doe.gov.

Minutes: The minutes of this meeting will be available within 90 days on the Office of Advanced Scientific Computing Web site at http://science.energy.gov/ascr/ascac/.

Issued at Washington, DC, on November 12, 2015.
LaTanya R. Butler,
Deputy Committee Management Officer.

[FR Doc. 2015-29429 Filed 11-17-15; 8:45 am]

BILLING CODE 6450-01-P